ENVIRONMENTAL PROTECTION AGENCY

[FRL-6883-7]

Science Advisory Board; Notification of Public Advisory Committee Meeting

SUMMARY: Pursuant to the Federal Advisory Committee Act, Public Law 92-463, notice is hereby given that the Natural Attenuation Subcommittee of the EPA Science Advisory Board's (SAB) Environmental Engineering Committee will conduct a public teleconference meeting on Wednesday October 25, 2000 from 1-3 p.m. Eastern Time. This activity began at the January 26th conference call meeting and included a face-to-face meeting August 14-15, 2000. Background, including the availability of review materials, will be found in previous notices (see 65 FR 1866-1867, January 12, 2000).

The meeting will be coordinated through a conference call connection in room 6450E Ariel Rios North (6th Floor), U.S. Environmental Protection Agency, 1200 Pennsylvania Avenue NW., Washington, DC. The public is strongly encouraged to attend the meeting through a telephonic link, but may attend physically if arrangements are made with the SAB staff by noon Thursday October 19. Additional instructions about how to participate in the conference call can be obtained by calling Ms. Mary Winston at (202) 564-4538, and via e-mail at: winston.mary@epa.gov by noon Thursday, October 19.

Purpose of the Meeting: During this meeting the Subcommittee plans to consider approval of its draft report. If approved, the draft report will be forwarded to the Environmental Engineering Committee for consideration at a public face-to-face meeting planned for December.

Availability of the draft Subcommittee Report: The staff anticipates the draft report will be mailed to the Subcommittee the week of October 16; the draft will be made available to the public by Email the day after it is mailed to the Subcommittee. For email copies, please contact the Designated Federal Officer at conway.kathleen@epa.gov. A limited number of paper copies will be available from Ms. Mary Winston at (202) 564-4538, and via e-mail at: winston.mary@epa.gov.

For Further Information—Any member of the public wishing further information concerning either meeting or wishing to submit brief oral comments must contact Ms. Kathleen White Conway, Designated Federal Officer, Science Advisory Board (1400A), U.S. Environmental Protection Agency, Ariel Rios Building, 1200 Pennsylvania Avenue, NW., Washington, DC 20460; telephone (202) 564-4559; FAX (202) 501-0582; or via e-mail at conway.kathleen@epa.gov. Requests for oral comments must be in writing (e-mail, fax or mail) and received by Ms. Conway no later than noon Eastern Time one week prior to the meeting.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), because this is a conference call meeting, any comments to be mailed to the Subcommittee in advance of the meeting should be received in the SAB Staff Office by noon Monday October 16. Copies in Email format will be accepted until the day before the meeting, although earlier submission is encouraged. Comments should be supplied to the appropriate DFO at the address/contact information noted above in the following formats: fifteen hard copies, one with original signature, and one electronic copy via e-mail (acceptable file format: WordPerfect, Word, or Rich Text files (in IBM-PC/Windows 95/98 format)).

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. Winston at least five business days prior to the meeting so that appropriate arrangements can be made.

Dated: October 3, 2000.
A. Robert Flaak,
Acting Staff Director, Science Advisory Board.

[FR Doc. 00-25932 Filed 10-6-00; 8:45 am]

BILLING CODE 6560-50-P